DEPARTMENT OF JUSTICE

Notice of Lodging of Consent Decree Under the Comprehensive Environmental Response, Compensation, and Liability Act

On March 5, 2019, the Department of Justice lodged a proposed Consent Decree with the United States District Court for the Western District of Michigan in United States v. CMS Energy Corp., et al., Civil Action No. 1:15-cv-1231.

The Consent Decree settles claims brought by the United States seeking reimbursement of response costs incurred and to be incurred in connection with the Little Traverse Bay CKD Release Site (the “Site”) pursuant to the Comprehensive Environmental Response, Compensation, and Liability Act, 42 U.S.C. 9601 et seq. The Consent Decree requires the Defendants to pay $8 million in Past Response Costs as defined by the Consent Decree. The Decree also provides the United States with a declaratory judgment against the Defendants for all costs incurred by the United States associated with the Site following the date of lodging of the Consent Decree that are not inconsistent with the National Contingency Plan.

The publication of this notice opens a period for public comment on the proposed Consent Decree. Comments should be addressed to the Assistant Attorney General, Environment and Natural Resources Division, and should refer to United States v. CMS Energy Corp., et al., D.J. Ref. No. 90-11-3-10295. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $5.50 (25 cents per page reproduction cost) payable to the United States Treasury.

Randall M. Stone,
Acting Assistant Section Chief, Environmental Enforcement Section, Environment and Natural Resources Division.

[FR Doc. 2019-04380 Filed 3-8-19; 8:45 am]

BILLING CODE 4410-15-P